DEPARTMENT OF THE INTEROR

Bureau of Land Management

[NV-055-5853-EU]

Notice of Realty Action; Modified Competitive Sale of Public Lands in Clark County, NV, N-79694

AGENCY: Bureau of Land Management, Department of the Interior.

ACTION: Notice of Realty Action.

SUMMARY: The Bureau of Land Management (BLM) proposes to sell public lands within the City of North Las Vegas in Clark County, Nevada. These lands, consisting of 20.42 acres more or less (10.42 acres considered developable) have been authorized for disposal under the Southern Nevada Public Land Management Act of 1998 (112 Stat. 2343), as amended by the Clark County Conservation of Public Land and Natural Resources Act of 2002 (116 Stat. 1994) (hereinafter “SNPLMA”). The land will be offered for sale utilizing modified competitive bidding procedures in accordance with the applicable provisions of Sections 203 and 209 of the Federal Land Policy and Management Act of 1976 (FLPMA) (43 U.S.C. 1713 and 1719), respectively, its implementing regulations, and in accordance with 43 CFR 2711.3-2, and BLM land sale and mineral conveyance regulations at 43 CFR Parts 2710 and 2720.

DATES: Comments regarding the proposed sale must be received by the BLM on or before July 10, 2006. Comments regarding the environmental assessment (EA) must be received by the BLM on or before July 10, 2006. Sealed bids must be received by July 24, 2006.

ADDRESSES: Comments regarding the proposed sale or EA should be addressed to: Field Manager, Las Vegas Field Office, Bureau of Land Management, 4701 N. Torrey Pines Drive, Las Vegas, Nevada 89103.

More detailed information regarding the proposed sale and the land involved may be reviewed during normal business hours (7:30 a.m. to 4:30 p.m.) at the Las Vegas Field Office (LVFO).

FOR FURTHER INFORMATION CONTACT: You may contact Anna Wharton, Supervisory Realty Specialist at (702) 515-5082 or by e-mail at anna_wharton@nv.blm.gov. You may also call (702) 515-5000 and ask to have your call directed to a member of the Sales Team.

SUPPLEMENTARY INFORMATION: 43 CFR 2711.3-2(a) states in part that “public lands may be offered for sale utilizing modified competitive bidding procedures when the authorized officer determines it is necessary to assure equitable distribution of land among purchasers or to recognize equitable considerations or public policies.

(1) Modified competitive bidding includes, but is not limited to:

(i) Offering to designated bidders the right to meet the highest bid. Refusal or failure to meet the highest bid shall constitute a waiver of such bidding provisions; or

(ii) A limitation of persons permitted to bid on a specific tract of land offered for sale; or

(iii) Offering to designated bidders the right of first refusal to purchase the lands at fair market value. Failure to accept an offer to purchase the offered lands within the time specified by the authorized officer shall constitute a waiver of this preference consideration.

(2) Factors that shall be considered in determining when modified competitive bidding procedures shall be used, include but are not limited to: Needs of State and/or local government, adjoining landowners, historical users, and other needs for the tract * * *.”

The City of North Las Vegas (CNLV) has proposed that the 20.42 acre parcel be sold to assist in addressing critical transportation needs adjacent to the Las Vegas Beltway and a major project of public importance on adjoining private land. This small BLM parcel is vital to the CNLV's transportation and public planning efforts. The adjoining ownership, restricted access, and the substantial impact of the Las Vegas Beltway easement preclude any development opportunities for the subject parcel other than those associated with the major project on the adjacent 120 acres of private land owned by PJ & CB LLC.

As a result of restrictions imposed by the Las Vegas Beltway and the Beltway exit to Losee Road, and transportation planning by the CNLV which prohibits ingress and egress from Lawrence Street, access to the subject parcel is controlled by PJ & CB LLC. However, PJ & CB LLC is willing to enter into appropriate transportation and access agreements with the CNLV to allow access through their adjoining private land as part of development of the major project. The size of the parcel, its isolated nature, substantial encumbrances by the Las Vegas Beltway and Losee Road (and the resulting unusual dimensions of net usable property), as well as the restricted access severely limit uses not associated with the major project.

At the CNLV's request, PJ & CB LLC is willing to purchase the parcel at not less than fair market value subject to modified competitive bidding procedures. The CNLV is concerned that open bidding, without allowing PJ & CB LLC the right to meet the highest bid, would preclude the opportunity to advance the major project in an integrated manner. Speculative bidding would jeopardize the CNLV's ability to work together with PJ & CB LLC and would impact development of the adjacent private land to the economic detriment of the CNLV.

On consideration of the factors described above, which include the transportation and development needs of local government, the ownership and access control by the adjoining land owner, and the absence of identified needs for the tract other than those proposed by the CNLV, the authorized officer has determined that the request by the CNLV meets the criteria in 43 CFR 2711.3-2 and that a modified competitive sale best serves the public interest. The authorized officer has determined that the method of sale will be to offer to the designated bidder the right to meet the highest bid in accordance with 43 CFR 2711.3-2(a)(1)(i), and CFR 2711.3-2(a)(2) as described above. This notice designates PJ & CB LLC as the one bidder with the right to meet the highest bid.

The proposed sale is consistent with the BLM Las Vegas Resource Management Plan and would serve important public objectives which cannot be achieved prudently or feasibly elsewhere. The land contains no other known public values. The subject parcel has not been identified for transfer to the State or any other local government or nonprofit organization. A map and approved appraisal report covering the proposed sale are available for review at the BLM, Las Vegas Field Office, Las Vegas, Nevada (LVFO). Sealed bids must be received by the LVFO, at the address listed above, not later than 60 days after publication of this notice in the Federal Register.

Sealed bids must be contained in an envelope marked “Sealed bid for Parcel N-79694”. All bidders must submit, with their sealed bid, a certified check, postal money order, bank draft, or cashier's check made payable to the Bureau of Land Management in an amount not less than 10% and not more then 30% of the appraised fair market value (FMV), which has been determined to be $11,775,000. If 2 or more envelopes containing valid bids of the same amount are received, the determination of which is to be considered the highest bid shall be by supplemental sealed biddings. Bids will be opened at the LVFO at the address listed above within 70 days from the publication of this Notice.

Land Proposed for Sale

Mount Diablo Meridian, Nevada

T. 19 S., R. 61 E.,

Sec. 23, Lot 12

A part of Clark County Tax Parcel No. 124-23-501-001

The lands described above contain 20.42 acres; however approximately 10 acres are encumbered with road rights-of-way, so only 10.42 acres may be considered useable.

In the event of a sale, conveyance of the available mineral interests will occur simultaneously with the sale of the land. The mineral interests being offered for conveyance have no known mineral value. Acceptance of the offer to purchase will constitute BLM's acceptance of an application for conveyance of those mineral interests. In conjunction with the final payment, the applicant will be required to pay a $50.00 non-refundable filing fee for conveyance of the available mineral interests.

Terms and Conditions of Sale

The BLM sale parcel will be offered for sale via written sealed bid and is subject to the following:

1. Based upon receipt of valid bids, BLM will offer to PJ & CB LLC the right to meet the highest bid and purchase the lands at an amount equal to the highest bid price, which must be not less than the fair market value as determined by the Secretary. If PJ & CB LLC declines this offer, the bidder with the highest sealed bid price will be declared the high bidder. Upon acceptance by BLM of the offer to purchase, the declared high bidder must submit 20% of the offered bid by cash, personal check, bank draft, money order or any combination of the aforementioned forms of payment made payable to the BLM, Las Vegas Field Office, 4701 North Torrey Pines Drive, Las Vegas, NV 89103. The deposit included with the sealed bid may be applied to the 20% payment at the buyer's discretion. Failure to submit at least 20% of the offered bid within this time frame may result in default and the BLM may retain the deposit submitted with the sealed bid and the sale may be cancelled. Prior to expiration of 180 days from the land sale offer date, the buyer must remit the balance of the accepted full bid price to BLM in the form of a certified check, money order, bank draft, or cashier's check made payable to the order of the Bureau of Land Management. Personal checks will not be accepted. Failure to pay the full price within the 180 days will disqualify the apparent high bidder and cause the entire 20% deposit to be forfeited to the BLM.

2. All discretionary leaseable and saleable mineral deposits are reserved; and permittees, licensees, and lessees retain the right to prospect for, mine, and remove such minerals owned by the United States under applicable law and any regulations that the Secretary of the Interior may prescribe, including all necessary access and exit rights.

3. A right-of-way is reserved for ditches and canals constructed by authority of the United States under the Act of August 30, 1890 (43 U.S.C. 945).

4. The sale is subject to valid existing rights. The parcel may be subject to applications received prior to publication of this Notice if processing the application would have no adverse effect on the federally approved Fair Market Value (FMV). Upon publication of this notice in the Federal Register, the above described land will be segregated from all other forms of appropriation under the public land laws, including the general mining laws, except for sales and disposals under the mineral disposal laws. This segregation will terminate upon issuance of a patent or 270 days from the date of this publication, whichever occurs first.

5. The parcel is subject to reservations for road, public utilities, and flood control purposes in accordance with the local governing entities' Transportation Plans.

6. No warranty of any kind, express or implied, is given by the United States as to the title, physical condition, or potential uses of the parcel of land proposed for sale, and the conveyance of this parcel will not be subject to any contingencies not contained in the Terms and Conditions section of this Notice. However, to the extent required by law, this parcel is subject to the requirements of section 120(h) of the Comprehensive Environmental Response Compensation and Liability Act, as amended (CERCLA) (42 U.S.C. 9620(h)).

7. All purchasers/patentees, by accepting a patent, covenant and agree to indemnify, defend, and hold the United States harmless from any costs, damages, claims, causes of action, penalties, fines, liabilities, and judgments of any kind or nature arising from the past, present, and future acts or omissions of the patentees or their employees, agents, contractors, or lessees, or any third party, in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, state, and local laws and regulations that are now, or may in the future become, applicable to the real property and/or applicable to the use, occupancy, and or operations therein; (2) Judgments, claims or demands of any kind assessed against the United States; (3) Costs, expenses, or damages of any kind incurred by the United States; (4) Releases or threatened releases of solid or hazardous waste(s) and/or hazardous substances(s), pollutant(s) or contaminant(s), and/or petroleum product or derivative of a petroleum product, as defined by Federal or state environmental laws, off, on, into or under land, property and other interests of the United States; (5) Activities by which solid waste or hazardous substances or waste and/or hazardous substance(s), pollutant(s) or contaminant(s), and/or petroleum products or derivative of a petroleum product, as defined by Federal and state environmental laws are generated, released, stored, used or otherwise disposed of on the patented real property, and any cleanup response, remedial action or other actions related in any manner to said solid or hazardous substances or wastes; or (6) Natural resource damages as defined by Federal and state law. Patentee shall stipulate that it will be solely responsible for compliance with all applicable Federal, state and local environmental and regulatory provisions, throughout the life of the facility, including any closure and/or post-closure requirements that may be imposed with respect to any physical plant and/or facility upon the real property under any Federal, state or local environmental laws or regulatory provisions. This covenant shall be construed as running with the parcels of land patented or otherwise conveyed by the United States, and may be enforced by the United States in a court of competent jurisdiction.

8. Maps delineating the individual proposed sale parcel are available for public review at the BLM LVFO along with the appraisal.

9. The BLM may accept or reject any or all offers, or withdraw the parcel of land or interest therein from sale, if, in the opinion of the authorized officer, consummation of the sale would not be fully consistent with FLPMA or other applicable laws or would not be in the public interest. If not sold, the parcel may be identified for sale at a later date without further legal notice.

10. Federal law requires bidders to be U.S. citizens 18 years of age or older; a corporation subject to the laws of any State or of the United States; a State, State instrumentality, or political subdivision authorized to hold property, or an entity including, but not limited to, associations or partnerships capable of holding property or interests therein under the laws of the State of Nevada. Certification of qualification, whether of citizenship or corporate or partnership status, must accompany the bid deposit.

Additional Information

In order to determine the value, through appraisal, of the parcel of land proposed to be sold, certain extraordinary assumptions may have been made of the attributes and limitations of the land and potential effects of local regulations and policies on potential future land uses. Through publication of this NORA, the BLM gives notice that these assumptions may not be endorsed or approved by units of local government. It is the buyer's responsibility to be aware of all applicable local government policies, laws, and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

Public Comments

The BLM field Manager, Las Vegas Field Office, 4701 North Torrey Pines Drive, Las Vegas, Nevada 89103 will receive the comments of the general public and interested parties up to 45 days after publication of this Notice in the Federal Register. Any adverse comments will be reviewed by the State Director, who may sustain, vacate, or modify this realty action in whole or in part. Any comments received during this process, as well as the commentor's name and address, will be available to the public in the administrative record and/or pursuant to a Freedom of Information Act request. You may indicate for the record that you do not wish to have your name and/or address made available to the public. Any determination by the BLM to release or withhold the names and/or addresses of those who comment will be made on a case-by-case basis. A request from a commentor to have their name and/or address withheld from public release will be honored to the extent permissible by law.

Dated: May 2, 2006.
Sharon DiPinto,
Assistant Field Manager.

[FR Doc. E6-8046 Filed 5-24-06; 8:45 am]

BILLING CODE 4310-33-P